DEPARTMENT OF DEFENSE

Office of the Secretary

[Docket ID: DoD-2014-OS-0156]

Proposed Collection; Comment Request

AGENCY: Office of the Under Secretary of Defense for Personnel and Readiness, DoD.

ACTION: Notice.

SUMMARY: In compliance with the Paperwork Reduction Act of 1995, the Office of the Under Secretary of Defense for Personnel and Readiness announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 5, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated forms for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of Family Readiness Policy, ATTN: Program Manager, Spouse Education & Career Opportunities Program, 4800 Mark Center Drive, Suite 03G15, Alexandria, VA 22350-2300.

SUPPLEMENTARY INFORMATION: Title; Associated Form; and OMB Number: Military Spouse Career Advancement Accounts Scholarship (MyCAA); OMB Control Number 0704-XXXX.

Needs and Uses: This information collection requirement is necessary to allow eligible military spouses to submit information for approval of financial scholarships to pursue portable careers.

To Utilize MyCAA Scholarship

Affected Public: Military spouse users of MyCAA.

Annual Burden Hours: 63,752.

Number of Respondents: 85,033.

Responses per Respondent: 1.

Annual Responses: 85,033.

Average Burden per Response: 45 minutes.

Frequency: On occasion.

To Apply for Participation in the MyCAA Program

Affected Public: Schools.

Annual Burden Hours: 93.

Number of Respondents: 370.

Responses per Respondent: 1.

Annual Responses: 370.

Average Burden per Response: 15 minutes.

Frequency: Once.

The Military Spouse Career Advancement Accounts Scholarship (MyCAA) is a career development and employment assistance program sponsored by the Department of Defense (DoD) to assist military spouses pursue licenses, certificates, certifications or associate's degrees (excluding associate's degrees in general studies, liberal arts, and interdisciplinary studies that do not have a concentration) necessary for gainful employment in high demand, high growth portable career fields and occupations; to provide a record of educational endeavors and progress of military spouses participating in education services; and to manage the tuition assistance scholarship, track enrollments and funding and to facilitate communication with participants via email. Records may also be used as a management tool for statistical analysis, tracking, reporting, evaluating program effectiveness and conducting research.

Dated: July 31, 2015.
Aaron Siegel,
Alternate OSD Federal Register, Liaison Officer, Department of Defense.

[FR Doc. 2015-19199 Filed 8-4-15; 8:45 am]

BILLING CODE 5001-06-P